DEPARTMENT OF TRANSPORTATION

Federal Aviation Administration

RTCA Special Committee 135/EUROCAE Working Group 14: Environmental Conditions and Test Procedures for Airborne Equipment

AGENCY: Federal Aviation Administration (FAA), DOT.

ACTION: Notice of RTCA Special Committee 135/EUROCAE Working Group 14 meeting.

SUMMARY: The FAA is issuing this notice to advise the public of a meeting of RTCA Special Committee 135/Eurocae Working Group 14: Environmental Conditions and Test Procedures for Airborne Equipment.

DATES: The meeting will be held June 18-20, 2003 starting at 9 a.m.

ADDRESSES: The meeting will be held at Embry-Riddle University, Haas Commons—Bldg. #73, Prescott, AZ.

FOR FURTHER INFORMATION CONTACT: (1) RTCA Secretariat, 1828 L Street, NW., Suite 805, Washington, DC 20036; telephone (202) 833-9339; fax (202) 833-9434; Web site http://www.rtca.org, (2) Jim Lyle at Embry Riddle; telephone (520) 708-3833; e-mail lyallj@erau.edu.

SUPPLEMENTARY INFORMATION: Pursuant to section 10(a)(2) of the Federal Advisory Committee Act Pub. L. 92-463, 5 U.S.C., Appendix 2), notice is hereby given for a Special Committee 135 meeting. The agenda will include:

• June 18-20:

• Opening Plenary Session (Welcome and Introductory Remarks, Recognize Federal Representative, Approve Minutes of Previous Meeting)

• Review Table of Changes

• Determine if Sub-Group Breakout Meetings are required

• Review Drafts of all Changed Sections

• Review Schedule for DO-160E, Environmental Conditions and Test Procedures for Airborne Equipment.

• Closing Plenary Session (Debrief of Subgroup Meetings, New/Unfinished Business, Date and Place of Next Meeting)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 28, 2003.
Janice L. Peters,
FAA Special Assistant, RTCA Advisory Committee.

[FR Doc. 03-14163 Filed 6-4-03; 8:45 am]

BILLING CODE 4910-13-M